ENVIRONMENTAL PROTECTION AGENCY

[FRL-8260-2; Docket ID No. EPA-HQ-ORD-2006-0950]

Integrated Risk Information System (IRIS); Request for Chemical Substance Nominations for 2007 Program

AGENCY: Environmental Protection Agency (EPA).

ACTION: Request for chemical substance nominations for the IRIS 2007 program.

SUMMARY: The Integrated Risk Information System (IRIS) is an Environmental Protection Agency (EPA) database that contains EPA's scientific positions on human health effects that may result from exposure to chemical substances in the environment. EPA is soliciting public nominations for chemical substances for its 2007 agenda. EPA invites the public to submit nominations for substances to be considered for an assessment or reassessment in its IRIS Program in accordance with the instructions provided at the end of this notice.

DATES: Nominations must be submitted within 30 days of the publication of this notice. The 30-day period begins December 22, 2006 and ends January 22, 2007.

ADDRESSES: Nominations may be submitted electronically via www.regulations.gov, by mail, by facsimile, or by hand delivery/courier. Please follow the detailed instructions provided in the SUPPLEMENTARY INFORMATION section of this notice.

FOR FURTHER INFORMATION CONTACT: For information on the IRIS Program, contact Abdel Kadry, Ph.D., Program Director, National Center for Environmental Assessment (mail code 8601D), Office of Research and Development, U.S. Environmental Protection Agency, Washington, DC 20460, or call (202) 564-1645, or send electronic mail inquiries to: kadry.abdel@epa.gov. For general questions about access to IRIS or the content of IRIS, please call the IRIS Hotline at (301) 345-2870 or send electronic mail inquiries to hotline.iris@epa.gov.

SUPPLEMENTARY INFORMATION:

I. Background

IRIS is an EPA database containing EPA consensus scientific positions on potential adverse human health effects that might result from exposure to chemical substances found in the environment. IRIS currently provides information on health effects associated with more than 500 chemical substances. The database includes chemical-specific summaries of qualitative and quantitative health information in support of the first two steps of the risk assessment process, i.e., hazard identification and dose-response evaluation. Combined with specific situational exposure assessment information, the information in IRIS may be used as a source in evaluating potential public health risks from environmental contaminants.

EPA's overall process for developing IRIS assessments consists of: (1) An annual Federal Register announcement of EPA's IRIS agenda and call for scientific information from the public on selected chemical substances; (2) a search of the current literature; (3) development of draft health assessments and IRIS summaries; (4) peer review within EPA and the Federal Government; (5) external peer review; (6) management approval; (7) preparation of final IRIS summaries and supporting documents; and (8) entry of summaries and supporting documents into the IRIS database.

A. The IRIS Annual Agenda

Each year, EPA develops a list of priority chemical substances and an annual agenda for the IRIS Program. EPA uses the following general criteria to set these priorities: (1) EPA statutory, regulatory, or program-specific implementation needs; (2) potential public health impact; (3) availability of new scientific information or methodology that might significantly change the current IRIS information; (4) interest to other levels of government or the public; and (5) availability of other scientific assessment documents such that only a modest additional effort would be needed to complete the review and documentation for IRIS. The decision to assess any given substance depends on available EPA resources. Timing of EPA's risk assessment guidance, guidelines, and science policy decisions may also play a role in deciding when the Agency has the appropriate methods to assess a chemical substance.

EPA continues to build and update the IRIS database by addressing the foremost user needs, as expressed by EPA, other federal agencies, and the public. EPA also works toward updating all assessments in the database where new scientific information is available to do so.

EPA is currently conducting the following 80 assessments. Unless otherwise noted, EPA expects to assess noncancer and cancer endpoints for each substance. For all endpoints assessed, EPA intends to develop both qualitative and quantitative assessments if adequate data are available to support those assessments.

Substance name | CAS no.
Acetaldehyde | 75-07-0
Acrolein (acute exposure duration) | 107-02-8
Acrylamide | 79-06-1
Acrylonitrile | 107-13-1
Aldicarb and aldicarb sulfoxide | 116-06-3/1646-87-3
Aldicarb sulfone | 1646-88-4
Arsenic, inorganic | 7440-38-2
Asbestos (noncancer and cancer effects) | 1332-21-4
Benzene (less-than-lifetime exposure durations) | 71-43-2
Benzo(a)pyrene | 50-32-8
Beryllium (cancer effects) | 7440-41-7
Bromobenzene | 108-86-1
Butyl benzyl phthalate | 85-68-7
Cadmium | 7440-43-9
Carbon tetrachloride | 56-23-5
Cerium and compounds | 1306-38-3
Chloroethane | 75-00-3
Chloroform (inhalation route) | 67-66-3
Chloroprene | 126-99-8
Cobalt | 7440-48-4
Copper | 7440-50-8
Dibutyl phthalate | 84-74-2
1,2-Dichlorobenzene | 95-50-1
1,3-Dichlorobenzene | 541-73-1
1,4-Dichlorobenzene | 106-46-7
cis-1,2-Dichloroethylene | 156-59-2
trans-1,2-Dichloroethylene | 156-60-5
Di(2-ethylhexyl)adipate | 103-23-1
Di(2-ethylhexyl) phthalate | 117-81-7
1,4-Dioxane | 123-91-1
Ethanol | 64-17-5
Ethyl tertiary-butyl ether (ETBE) | 637-92-3
Ethylbenzene | 100-41-4
Ethylene dichloride | 107-06-2
Ethylene glycol monobutyl ether (cancer effects) | 111-76-2
Ethylene oxide (acute exposure duration) | 75-21-8
Ethylene oxide (cancer effects) | 75-21-8
Formaldehyde | 50-00-0
Hexachlorobutadiene | 87-68-3
Hexachloro- cyclopentadiene (acute exposure duration) | 77-47-4
Hexachloroethane | 67-72-1
Hexahydro-1,3,5-trinitro-triazine (RDX) | 121-82-4
2-Hexanone | 591-78-6
Hydrogen cyanide | 74-90-8
Hydrogen sulfide (acute exposure duration) | 7783-06-4
Isopropanol | 67-63-0
Kepone | 143-50-0
Methanol | 67-56-1
Methyl tertiary-butyl ether (MTBE) | 1634-04-4
Methylene chloride (dichloromethane) | 75-09-2
Mirex | 2385-85-5
Naphthalene | 91-20-3
Nickel (soluble salts) | [N.A.-various]
Nitrobenzene | 98-95-3
PAH mixtures | [N.A.-various]
Pentachlorophenol | 87-86-5
Perfluorooctanoic acid—ammonium salt | 3825-26-1
Perfluorooctane sulfonate—potassium salt | 2795-39-3
Phosgene (acute exposure duration) | 75-44-5
Platinum | 7440-06-4
Polybrominated diphenyl ethers (PBDEs)
-tetraBDE | 5436-43-1
-pentaBDE | 60348-60-9
-hexaBDE | 68631-49-2
-decaBDE | 1163-19-5
Polychlorinated biphenyls (PCBs) | 1336-36-3
Propionaldehyde | 123-38-6
Refractory ceramic fibers | [N.A.]
Styrene | 100-42-5
2,3,7,8-TCDD (dioxin) | 1746-01-6
1,1,2,2-Tetrachloroethane | 79-34-5
Tetrachloroethylene (perchloroethylene) | 127-18-4
Tetrahydrofuran | 109-99-9
Thallium | 7440-28-0
Trichloroacetic acid | 76-03-9
1,1,1-Trichloroethane | 71-55-6
Trichloroethylene | 79-01-6
1,2,3-Trichloropropane | 96-18-4
2,2,4-Trimethylpentane | 540-84-1
Uranium compounds | 7440-61-1
Vinyl acetate | 108-05-4

B. Submission of Nominations for New Assessments for the 2007 IRIS Program

Today's notice invites voluntary public nominations for chemical substances not already listed in this notice. Nominations are most useful if they identify the nominator; including full name, title, affiliation, mailing address, e-mail address, and telephone number.

II. How to Submit Nominations to the Docket at www.regulations.gov

Submit your nominations, identified by Docket ID No. EPA-HQ-ORD 2006-0950 by one of the following methods:

• http://www.regulations.gov: Follow the on-line instructions for submitting comments.

• E-Mail: ORD.Docket@epa.gov.

• Fax: (202) 566-1753.

• Mail: Office of Environmental Information (OEI) Docket (Mail Code: 2822T), U.S. Environmental Protection Agency, 1200 Pennsylvania Ave., NW., Washington, DC 20460. The phone number is (202) 566-1752.

• Hand Delivery: The OEI Docket is located in the EPA Headquarters Docket Center, EPA West Building, Room 3334, 1301 Constitution Ave., NW., Washington, DC. The EPA Docket Center Public Reading Room is open from 8:30 a.m. to 4:30 p.m., Eastern Standard Time (EST), Monday through Friday, excluding Federal holidays. The telephone number for the Public Reading Room is (202) 566-1744. Such deliveries are only accepted during the docket's normal hours of operation, and special arrangements should be made for deliveries of boxed information.

Consult EPA's EPA Web site at http://www.epa.gov/epahome/dockets.htm for current information on docket operations, locations and telephone numbers.

If you provide nominations by mail or hand delivery, please submit one unbound original with pages numbered consecutively, and three copies of the nominations. For attachments, provide an index, number pages consecutively with the nominations, and submit an unbound original and three copies.

Instructions: Direct your nominations to Docket ID No. EPA-HQ-ORD-2006-0950. Please ensure that your comments are submitted within the specified nomination period. Nominations received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: Documents in the docket are listed in the www.regulations.gov index. Although listed in the index, some information is not publicly available, e.g., CBI or other information whose disclosure is restricted by statute. Certain other materials, such as copyrighted material, are publicly available only in hard copy. Publicly available docket materials are available either electronically in www.regulations.gov or in hard copy at the OEI Docket in the EPA Headquarters Docket Center.

Dated: December 14, 2006.
George Alapas,
Deputy Director, National Center for Environmental Assessment.

[FR Doc. E6-21970 Filed 12-21-06; 8:45 am]

BILLING CODE 6560-50-P